OFFICE OF PERSONNEL MANAGEMENT

Proposed Collection; Comment Request; Review of a Revised Information Collection: OPM Form of 612, Optional Application for Federal Employment Resume Builder in USAJOBS Web Site and the USAJOBS Web Site

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a revised information collection of the optional form called Optional Application for Federal Employment (OF 612); the specifications of the improved resume builder in the USAJOBS Web site (http://www.USAJOBS.opm.gov); and screen shots of the Web pages within the USAJOBS Web site.

The OF 612 is a data collection form used to collect applicant qualifications information associated with vacancy announcements. The form provides necessary guidance to applicants so that they can be considered for employment when applying for Federal jobs. Presently the OF 612 is downloadable from OPM's electronic forms page on the USAJOBS Web site (http://www.opm.gov/forms) in fillable .pdf format. This data collected are necessary for Federal agencies to evaluate applicants for Federal jobs under the authority of sections 1104, 1302, 3301, 3304, 3320, 3361, 3393, and 3394 of title 5 United States Code.

OPM proposes to eliminate the optional form Applying for a Federal Job (OF 510). The OF 510 is a brochure that has been used to provide guidance to the general public on how to apply for Federal jobs and to construct a Federal resume. This brochure provides instructions on what necessary work, education, and other information applicants should provide when completing a resume or other application for Federal employment consideration. The instructions contained in the OF 510 have been incorporated into the revised OF 612 and the USAJOBS resume builder. The instructions are also available through numerous other sources, including the USAJOBS Web site, that were not available at the time this brochure was originally created. This action is being taken to eliminate the need to print, maintain, and distribute an instructional guide in hard copy format where the information can be readily updated and delivered leveraging current Web and other automated technology.

OPM intends to reconstruct the resume builder in the USAJOBS Web site to be in line with the data elements collected in the revised OF 612. The resume builder will contain the critical elements applied across the Federal government to assess an applicant's qualifications. Thus, the new design will capture only the essential information Federal agencies use to evaluate applicants for Federal jobs under the authority of sections 1104, 1302, 3301, 3304, 3320, 3361, 3393, and 3394 of title 5 United States Code.

The Optional Application for Federal Employment (OF 612) and the resume builder in the USAJOBS Web site contain questions regarding the applicant's education history, including dates of attendance, name, type and place of institution, and degrees earned. Due to the increasing number of claimed degrees earned from non-accredited or bogus institutions, commonly referred to as diploma mills, the revised versions include an accreditation field. This field asks the applicant to show whether the college or university is accredited by, or is in pre-accreditation status of, an accrediting organization recognized by the U.S. Department of Education at the time the applicant attended the institution. The revised forms also advise the applicant not to list education from diploma mills, degrees based solely on life experiences, or obtained from schools with little or no academic standards.

The USAJOBS Web site is the Federal Government's official one-stop source for Federal jobs and employment information. USAJOBS is operated by OPM and provides job vacancy information, employment fact sheets, and job applications/forms and on-line resume development. Job seekers may create a “My USAJOBS” account where they can create up to five resumes, or convert and store an existing one. These resumes are stored in one location where they can be updated, saved, or sent at any time.

Comments are particularly invited on: whether this information is necessary for the proper performance of functions of the Office of Personnel Management, and whether it will have practical utility; whether our estimate of the public burden of this collection of information is accurate, and based on valid assumptions and methodology; and ways in which we can further minimize the burden of the collection of information on those who are to respond, through the use of appropriate technological collection techniques or other forms of information technology.

We estimate 245,000 applications will be completed annually using the OF 612. The public reporting burden for the collection of the data will vary from 20 to 240 minutes, with an average of 40 minutes per response, including time for reviewing instructions, searching existing data sources, gathering data, and completing and reviewing the information. The annual estimated burden is 9,800 hours.

We estimate 3,510,600 applications will be completed annually using the resume builder in the USAJOBS Web site. The public reporting burden for the collection of the data will vary from 20 to 240 minutes, with an average of 40 minutes per response, including time for reviewing instructions, searching existing data sources, gathering data, and completing and reviewing the information. The annual estimated burden is 9,800 hours.

For copies of this proposal, contact Mary Beth Smith-Toomey on (202) 606-8358, FAX (202) 418-3251 or via E-mail to MaryBeth.Smith-Toomey@opm.gov. Please include a mailing address with your request.

DATES: Comments on this proposal should be received within 60 calendar days from the date of this publication.

ADDRESSES: Send or deliver comments to—U.S. Office of Personnel Management, USAJOBS, ATTN: Mariana Pardo, U.S. Office of Personnel Management, 1900 E Street, NW., Room 2469, Washington, DC 20415.

U.S. Office of Personnel Management.
Kay Coles James,
Director.

[FR Doc. 04-23696 Filed 10-21-04; 8:45 am]

BILLING CODE 6325-38-P